ENVIRONMENTAL PROTECTION AGENCY

[FRL-7251-2]

Additional Data Available on Wastes Studied in the Report to Congress on Cement Kiln Dust

AGENCY: Environmental Protection Agency (EPA).

ACTION: Notice of data availability (NODA) and request for comments.

SUMMARY: This notice announces the availability for public inspection and comment, of recently acquired data on cement kiln dust (CKD) studied in the Agency's December 1993 Report to Congress on Cement Kiln Dust (see 59 FR 709, 1/6/94). The Agency is now considering an approach whereby it would finalize the proposed option of issuing the protective CKD management standards as described in the August 20, 1999 proposal (64 CFR 45632) , as a RCRA Subtitle D rule. The Agency would temporarily suspend its active consideration of the proposed listing of mismanaged CKD as a hazardous waste, and assess how CKD management practices and state regulatory programs evolve over the next three to five years. Based on this assessment, EPA will then proceed to either formally withdraw or promulgate the portion of the 1999 proposal that classifies as a RCRA hazardous waste CKD that has been egregiously mismanaged.

DATES: Submit comments on or before September 23, 2002.

ADDRESSES: Comments may be submitted electronically, by mail, or through hand delivery/courier. Follow the detailed instructions as provided in the SUPPLEMENTARY INFORMATION section.

FOR FURTHER INFORMATION CONTACT: For general information, contact the RCRA/Superfund Hotline at (800) 424-9346 or (202) 260-3000; for technical information contact Anthony Carrell (5306W), U.S. Environmental Protection Agency, 1200 Pennsylvania Avenue, NW., Washington, DC 20460, carrell.anthony@epa.gov, (703) 308-0458.

SUPPLEMENTARY INFORMATION:

I. General Information

EPA has established an official public docket for this action under Docket ID No. RCRA-1999-0011. The official public docket is the collection of materials that is available for public viewing at the RCRA Information Center (RIC), 1235 Jefferson Davis Hwy, 1st Floor, Arlington, VA 22201. This Information Center is open from 9 a.m.-4 p.m., Monday through Friday, excluding legal holidays. The Center telephone number is (703) 603-9230.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. Although not all docket materials may be available electronically, you may still access any of the publicly available docket materials through the docket facility identified in Unit I.3.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

How and To Whom Do I Submit Comments?

You may submit comments electronically, by mail, or through hand delivery/courier. To ensure proper receipt by EPA, identify the appropriate docket identification number in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. Go directly to EPA Dockets at http://www.epa.gov/edocket, and follow the online instructions for submitting comments. Once in the system, select “search,” and then key in Docket ID No. RCRA-1999-0011. The system is an “anonymous access” system, which means EPA will not know your identity, e-mail address, or other contact information unless you provide it in the body of your comment.

Comments may be sent by electronic mail (e-mail) to [RCRA-docket@epamail.epa.gov], Attention Docket ID No. RCRA-1999-0011. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

You may submit comments on a disk or CD ROM that you mail to the mailing address already identified. These electronic submissions will be accepted in WordPerfect or ASCII file format. Avoid the use of special characters and any form of encryption.

2. By Mail. Send your comments to: Environmental Protection Agency, Mailcode: 5305-G, 1200 Pennsylvania Ave., NW., Washington, DC, 20460, Attention Docket ID No. RCRA-1999-0011.

3. By Hand Delivery or Courier. Deliver your comments to: RCRA Information Center (RIC), 1235 Jefferson Davis Hwy, 1st Floor, Arlington, VA 22201, Attention Docket ID No. RCRA-1999-0011. Such deliveries are only accepted during the Center's normal hours of operation as identified above.

Background: On February 7, 1995, EPA issued the Regulatory Determination required by section 3001(b)(3)(C) of RCRA, finding that additional control of CKD was warranted (60 FR 7366). Specifically, the Agency stated that its concerns about the potential harm to human health and the environment posed by some CKD suggest the need for some level of regulation under RCRA Subtitle C authority. The Agency also decided to evaluate the need for additional controls for off-site use of CKD as use as a substitute for lime on agricultural fields.

On August 20, 1999, EPA issued a proposed rule (64 FR 45632) outlining the Agency's preferred regulatory approach; i.e., an exemption from hazardous waste listing for properly managed CKD, and several optional approaches including requirements solely under RCRA Subtitle D. Under the preferred approach, CKD would remain a non-hazardous waste provided the following management standards are met. First, for ground water protection, the Agency proposed management standards which require a landfill to be designed to control releases of toxic metals to ground water. EPA also proposed that ground water monitoring be required for all new and existing CKD management units to detect the presence of regulated constituents in the ground water. The Agency also proposed that within 90 days of finding that any of the part 261 inorganic constituents have been detected at a statistically significant level exceeding the groundwater protection standards as defined under § 259.45(h), the persons managing the CKD waste must initiate an assessment of corrective measures. The ground water monitoring and corrective action requirements proposed are based on requirements promulgated under part 258 for municipal solid waste landfills and hazardous waste regulations under part 264-subpart F for Solid Waste Management Units. Second, to control releases of fugitive dust, the proposed management standards would require persons managing CKD waste to cover or otherwise manage the landfill, CKD handling areas, and CKD storage areas to control wind dispersal of fugitive CKD. Third, EPA proposed concentration limitations on various pollutants in CKD used for agricultural purposes. Finally, the Agency proposed a hazardous waste listing and tailored standards for CKD where there are egregious or repeated violations of the management standards described above.

EPA also took comment on an approach that would promulgate the same protective management standards described above solely as RCRA Subtitle D requirements, relying on authority in RCRA section 4004(a). Under this approach the standards would be enforceable by the public through citizen suits. EPA would additionally encourage States to adopt standards developed under Subtitle D as enforceable standards under State law, but the Agency could not compel them to do so. Such standards would not be directly enforceable by EPA under the enforcement authorities of sections 3007 and 3008. However, EPA could take enforcement action under section 7003, upon a finding of imminent and substantial endangerment. In addition, the Agency requested comment on several other approaches. See 64 FR 45632 for a discussion of these other approaches.

The Agency received a total of 52 comments; two from the Association of State and Territorial Solid Waste Management Officials, 11 from states, two from the American Portland Cement Alliance, 23 from cement plants, six from other related industry commenters, five from CKD reusers or recyclers and three from geotechnical engineering companies or consultants. No written comments were submitted by citizens groups, environmental community groups or the general public. All comments are on file in the Docket to this NODA and may be reviewed; see the ADDRESSES section below. In addition, a summary of public comments document is available on the internet at www.epa.gov/epaoswer/other/ckd/index.htm.

New Data: On May 11, 2001, the American Portland Cement Alliance (APCA) submitted a rulemaking petition to EPA pursuant to 7004(a) of the RCRA requesting that the Agency (1) withdraw the regulations EPA proposed in 1999 relating to CKD and (2) reverse the 1995 regulatory determination for CKD. EPA met with APCA on July 6, 2001 to discuss the petition. APCA indicates that a decrease in waste CKD, an increase in groundwater monitoring, improved CKD management practices, improved fugitive dust controls and improvements in State programs obviate the need for federal CKD waste management regulations. APCA suggests that State programs have improved and provided regulatory language from six States illustrating they no longer allow placement of waste in old quarries down into the groundwater. APCA also contends that the amount of CKD disposed by the most significant disposers of the dust has been reduced by over 22 percent since 1990, while during the same period clinker production among these same plants has increased by almost 22 percent. APCA provided groundwater monitoring data for 18 CKD disposal facilities from a collection of information on 35 plants that together accounted for approximately 95 percent of the CKD landfilled in the United States in 2000.

Applicable State groundwater contaminant limits for these 18 facilities were also provided. APCA points out that 20 of the 35 plants (57%) monitor ground water, 34 (97%) practice landfill dust control techniques, 30 (86%) CKD employ compaction techniques, 32 (91%) practice road-dust control and 27 (77%) have water runoff controls. APCA's rulemaking petition and a summary of the July 6, 2001 meeting are on file in the Docket to this NODA. For access to these materials, see the ADDRESSES section below.

APCA also provided summary reports of groundwater monitoring data dated October 2001 for 18 CKD disposal facilities operated by nine cement manufacturing companies in 10 States. EPA assessed these data for exceedances of groundwater maximum contaminant levels or health-based numbers. APCA's summary reports of groundwater monitoring data and EPA's analysis of the data are in the Docket to this NODA.

ADDRESSES: Supporting materials and comments on the 1999 proposed rule are available for viewing in the RCRA Information Center (RIC), located at Crystal Gateway I, First Floor, 1235 Jefferson Davis Highway, Arlington, VA. The Docket Identification Number is RCRA-1999-0011. The RIC is open from 9 a.m. to 4 p.m., Monday through Friday, excluding federal holidays. To review docket materials, it is recommended that the public make an appointment by calling 703-603-9230. The public may copy a maximum of 100 pages from any regulatory docket at no charge. Additional copies cost $0.15/page.

Comment Period: The Agency is soliciting comments only on the new data provided by APCA regarding reduced disposal, more extensive groundwater monitoring, increased fugitive dust controls, and improved CKD management and state programs. EPA is not reopening the comment period on the Report to Congress on Cement Kiln Dust or the 1999 proposed rule. Public comments on the new APCA data will be accepted through September 23, 2002.

Comment Submissions: Those persons, companies or organizations intending to submit comments for the record must send an original and two copies to the following address: RCRA Docket Information Center (5305), U.S. Environmental Protection Agency, 1200 Pennsylvania Avenue, NW, Washington, DC, 20460. Please place the docket number RCRA-1999-0011 on your comments.

Additional Information: As noted above, the 1999 proposal sought comment on a number of regulatory options for addressing the hazards associated with managing CKD. Among the options discussed, was the adoption of the management standards described in the proposed rule language (64 FR 45632) solely as RCRA Subtitle D requirements. As also noted above, we received numerous comments on the 1999 proposal from industry and States. The Agency has reviewed all comments on the proposed rule, including comments directed to the Subtitle D option. Based on our review of the comments, the Agency recognizes that even though detection of contaminants from CKD in groundwater, and fugitive dust emissions from CKD management units continue, improvements are occurring in cement manufacturing technology and processes that are resulting in an increase in CKD recycling back into the manufacturing process which translates to a decrease in waste CKD. We also recognize that there has been an increase in groundwater monitoring at CKD management units. We further recognize that additional States have regulatory programs that address CKD management and a number of other States are willing to develop or refine regulatory programs, but are reluctant to do so pending EPA's decision on the 1999 proposal.

In light of these developments, the Agency is now considering an approach whereby it would finalize the proposed option of issuing the CKD management standards as described in the August 20, 1999 proposal (64 CFR 45632) , as a RCRA Subtitle D rule and would temporarily suspend its active consideration of the proposed mismanagement-based listing (but would not formally withdraw the proposed rule) for a period of three to five years. During this time, EPA would collect data to evaluate the effectiveness of CKD management practices and States' regulatory programs. This approach would create a federal baseline that states could use to develop appropriate regulatory programs and allow adequate time for implementation of more protective CKD management standards. If after its evaluation the Agency deems CKD management practices and State regulatory programs to be effective in protecting human health and the environment, the Agency would formally withdraw the Subtitle C portion of the 1999 proposal and would revisit the 1995 CKD regulatory determination. On the other hand, if the Agency deems CKD management practices and State regulatory programs to be ineffective after this period, the Agency would pursue regulation of mismanaged CKD under RCRA Subtitle C, as described in the 1999 proposal.

Additionally, the Agency has determined that additional risk analyses for CKD used as an agricultural soil amendment substitute is warranted. The Agency will perform these analyses and report the results in a subsequent NODA. If additional controls are needed for CKD used as an agricultural soil amendment substitute, the Agency will issue agricultural use requirements.

Dated: July 16, 2002.
Elizabeth Cotsworth,
Director, Office of Solid Waste.

[FR Doc. 02-18870 Filed 7-24-02; 8:45 am]

BILLING CODE 6560-50-P